ELECTION ASSISTANCE COMMISSION

Information Collection Activity; Proposed Collection; Comment Request

AGENCY: U.S. Election Assistance Commission (EAC).

ACTION: Notice.

SUMMARY: In compliance with Section 3506(c)(2)(A) of the Paperwork Reduction Act of 1995, EAC announces the proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received on or before close of business (5:30 p.m. e.s.t.) on Monday, December 6, 2004.

ADDRESSES: Written comments and recommendations on the proposed information collection should be sent to the U.S. Election Assistance Commission, 1225 New York Avenue NW., Washington, DC 20005, ATTN: Mr. Brian Hancock or may be submitted by facsimile transmission at (202) 566-3127.

FOR FURTHER INFORMATION CONTACT: To request more information on this proposed information collection or to obtain a copy of the proposal and associated collection instruments, please write to the above address, or call Mr. Brian Hancock at (202) 566-3100.

Title and OMB Number: Military and Overseas Absentee Ballot Survey, OMB Number 6820-0NEW.

Needs and Uses: The information collection requirement is necessary to meet a requirement of the Help America Vote Act (HAVA) of 2002 (42 U.S.C. 15301 et seq.). Section 703 of HAVA requires the states and local election jurisdictions to “submit a report to the Election Assistance Commission * * * on the combined number of absentee ballots transmitted to absent uniformed services voters and overseas voters for the election and the combined number of such ballots which were returned by such voters and cast in the election * * *” HAVA further directs EAC to develop a form for the report of these statistics.

Affected Public: State or Local Government.

Annual Burden Hours: 5060 hours.

Number of Respondents: 55.

Responses Per Respondent: 1.

Average Burden Per Reslponse: 92 hours.

Frequency: Following each federal general election (Bi-annually).

SUPPLEMENTARY INFORMATION:

Summary of Information Collection

HAVA created the Election Assistance Commission and enacted numerous provisions aimed at improving the administration of federal elections. This survey seeks information regarding the ballots requested and cast by military personnel and overseas citizens in the November 2, 2004 election. In addition, this information will assist EAC in studying the administration of that federal election, will provide insight into issues or problems that may require additional study and consideration, and will assist the EAC in providing a complete report to Congress on the successes and challenges related to the November 2, 2004 election. The following categories of information are requested on a countylocal election jurisdiction and State level:

Contact Information

State, name, title, address, phone, e-mail, and date of submission.

Absentee Ballots

• Number of absentee ballots transmitted to (a) domestic military, (b) overseas military, and (c) overseas citizens;

• Number of absentee ballots returned by (a) domestic military, (b) overseas military, and (c) overseas citizens;

• Number of advance or special write in ballots sent to military and overseas citizens;

• Number of absentee ballots returned by (a) mail, (b) fax, and (c) e-mail;

• Number of absentee ballots counted;

• Number of absentee ballots rejected for each of the following reasons, respectively: (a) Lacked postmark, (b) lacked voter's signature, (c) contained no verifiable signature, (d) had no date of signature, (e) had no notary or witness signature, (f) had no date of notary or witness signature, (g) was received after the state deadline, (h) was returned as undeliverable, or (i) was rejected for another reason;

• Number of Federal Write-In Absentee Ballots (FWAB).

Jurisdictions Responding

Total number of local jurisdictions, total number of local jurisdictions reporting, reasons for missing data, and the name and contact information for each local election jurisdiction official that provided information for the purpose of responding to the survey.

DeForest B. Soaries, Jr.,
Chairman, U.S. Election Assistance Commission.

[FR Doc. 04-25663 Filed 11-18-04; 8:45 am]

BILLING CODE 6820-YN-M